DEPARTMENT OF DEFENSE

Department of the Air Force

32 CFR Part 903

[Docket No. USAF-2007-0001]

RIN: 0701-AA72

Air Force Academy Preparatory School

AGENCY: DoD, USAF.

ACTION: Proposed rule.

SUMMARY: This proposed rule tells how to apply for the Air Force Academy Preparatory School. It also explains the procedures for selection, disenrollment, and assignment. This rule has been updated to identify USAFA's revised mission statement and the authority, add responsibilities, new selection criteria, and updates of associated Air Force Instructions.

DATES: Interested parties should submit written comments on or before September 10, 2007.

ADDRESSES: You may submit comments, identified by docket number and or RIN number and title, by any of the following methods:

• Federal eRulemaking Portal: http://www.regulations.gov. Follow the instructions for submitting comments.

• Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Scotty Ashley at (703) 695-3594, scotty.Ashley@pentagon.af.mil.

SUPPLEMENTARY INFORMATION:

Executive Order 12866, “Regulatory Planning and Review”

It has been determined that 32 CFR part 903 is not a significant regulatory action. This rule does not:

(1) Have an annual effect on the economy of $100 million or more or adversely affect in a material way the economy, a sector of the economy, productivity, competition, jobs, the environment, public health or safety, or state, local, or tribal governments or communities;

(2) Create a serious inconsistency or otherwise interfere with an action taken or planned by another agency;

(3) Materially alter the budgetary impact of entitlements, grants, user fees, or loan programs, or the rights and obligations of the recipients thereof; or

(4) Raise novel legal or policy issues arising out of legal mandates, the President's priorities, or the principles set forth in this Executive Order.

Unfunded Mandates Reform Act (Sec. 202, Pub. L. 104-4)

It has been certified the 32 CFR part 903 does not contain a Federal Mandate that may result in the expenditure by State, local and tribal governments, in aggregate, or by the private sector, of $100 million or more in any one year.

Public Law 96-354, “Regulatory Flexibility Act” (5 U.S.C. 601)

It has been determined that this rule is not subject to the Regulatory Flexibility Act (5 U.S.C. 601) because it would not, if promulgated, have a significant economic impact on a substantial number of small entities. This rule * * *.

Public Law 95-511, “Paperwork Reduction Act” (44 U.S.C. Chapter 35)

It has been certified that 32 CFR part 903 does not impose any reporting or recordkeeping requirements under the Paperwork Reduction Act of 1995 (44 U.S.C. Chapter 35).

Federalism (Executive Order 13132)

It has been certified that 32 CFR part 903 does not have federalism implications, as set forth in Executive Order 13132. This rule does not have substantial direct effects on:

(1) The States;

(2) The relationship between the National Government and the States; or

(3) The distribution of power and responsibilities among the various levels of government.

List of Subjects in 32 CFR Part 903

Military academy, Military personnel.

Therefore, for the reasons set forth in the preamble, 32 CFR part 903 is proposed to be revised to read as follows:

PART 903—AIR FORCE ACADEMY PREPARATORY SCHOOL

Sec.
903.1 Mission and responsibilities.
903.2 Eligibility requirements.
903.3 Selection criteria.
903.4 Application process and procedures.
903.5 Reserve enlistment procedures.
903.6 Reassignment of Air Force members to become cadet candidates at the Preparatory School.
903.7 Reassignment of cadet candidates who graduate from the Preparatory School with an appointment to U.S. Air Force Academy (USAFA).
903.8 Cadet candidate disenrollment.
903.9 Cadet records and reassignment forms.
903.10 Information collections, records, and forms or information management tools (IMTS).

Authority: 5 U.S.C. 301, 10 U.S.C. 8013, and 10 U.S.C. 9331 (except as otherwise noted).

Note: This part is derived from AFI 36-2021, September 12, 2006. Part 806 of this chapter states the basic policies and instructions governing the disclosure of records and tells members of the public what they must do to inspect or obtain copies of the material referenced herein.

§ 903.1 Mission and responsibilities.

(a) Mission. To motivate, prepare, and evaluate selected candidates in an educational, military, moral, and physical environment, to perform successfully and enhance diversity at USAFA.

(b) Responsibilities:

(1) Superintendent, USAFA (HQ USAFA/CC). Ensures adequate oversight of HQ USAFA/PL activities, administration, and resources. Means of oversight include but are not limited to:

(i) United States Air Force Academy Instruction (USAFAI) 36-3502, USAFA Assessment Board.

(ii) The Preparatory School Advisory Committee, as established in USAFAI 36-2013, Superintendent's Preparatory School Advisory Committee of the USAF Academy Preparatory School.

(iii) Annual Assessment, as established in Department of Defense (DoD) Directive 1322.22, Service Academies.

(iv) Audits, Eagle Looks, and Unit Compliance Inspections.

(v) Special reviews and investigations as directed by HQ USAF.

(vi) USAFA Board of Visitors (BoV).

(2) HQ USAFA/PL Commander:

(i) Ensures the education and training programs satisfy the school's mission.

(ii) Informs HQ USAFA/RR of candidates' names, including essential categories, when each class enters.

(iii) Administers the disenrollment process. Notifies the Headquarters USAFA Superintendent (HQ USAFA/CC), and HQ USAFA/RR of all disenrollments.

(iv) Responsible, along with ARPC, for administering the oath of enlistment on the date of inprocessing. The effective date of enlistment is the date the applicant took the oath.

(3) Air Reserve Personnel Center (ARPC):

(i) Receives DD Form 1966, Record of Military Processing—Armed Forces of the United States, from select candidates upon inprocessing.

(ii) Reviews the DD Form 1966 for completion/acceptance.

(iii) Completes the DD Form 4, Enlistment/Reenlistment Document Armed Forces of the United States, if DD Form 1966 is in order.

(iv) Responsible, along with USAFA/PL, for administering the oath of enlistment on the date of inprocessing. The effective date of enlistment is the date the applicant took the oath.

(v) Publishes reserve orders placing applicant on active duty for the purpose of attending Preparatory school. Preparatory school determines the date of call to active duty (usually date administered the oath). ARPC provides copies of orders to MPF on the date of inprocessing.

(4) 10th Mission Support Squadron Military Personnel (10 MSS/DPM):

(i) Ensures Regular and Reserve Air Force personnel reassigned to the HQ USAFA/PL enter with the highest grade they had achieved as of their date of enrollment and retain their date of rank or effective date.

(ii) Maintains records on Cadet Candidates.

(iii) Processes separation orders for non-prior service members who complete the HQ USAFA/PL and accept an appointment to a U.S. Service Academy.

(iv) Prepares discharge orders for non-prior service members who are disenrolled or do not accept appointment to a U.S. Service Academy.

(v) Issues ID cards.

(5) Headquarters USAFA Admissions (HQ USAFA/RR):

(i) Notifies cadet candidates of their acceptance into HQ USAFA/PL. Includes an accept-or-decline form with acceptance letter and asks cadet candidates to return the form as soon as possible.

(ii) Issues “Invitation to Travel” letters to all accepted cadet candidates (including civilians, reservist and members of other services) inviting them to travel to the HQ USAFA/PL, enlist in the Air Force Reserve (if necessary), and attend the HQ USAFA/PL.

(iii) Sends a notice to non-selected service personnel and their servicing Military Personnel Flight (MPF). Note: The Air Force does not typically notify civilian applicants of their non-selection.

(iv) Provides 10 MSS/DPMA with the name, grade, social security number, mailing address, and unit of assignment for reassignment of all applicants on Air Force active duty who are accepted into HQ USAFA/PL.

(v) Sends DODMERB a data file listing all applicants that need a medical examination. DODMERB uses the data file to schedule necessary exams.

(6) Unit commanders of all Regular and Reserve Component Air Force personnel applying to the HQ USAFA/PL:

(i) Review each applicant's completed AF Form 1786, Application for Appointment to the United States Air Force Academy Under Quota Allotted to Enlisted Members of the Regular and Reserve Components of the Air Force, and determine if the applicant meets eligibility requirements.

(ii) Forward an endorsement of all applicants who meet eligibility requirements, together with AF Form 1786, through the MPF to: Headquarters USAFA Admission Selections (HQ USAFA/RRS), 2304 Cadet Drive, USAF Academy CO 80840-5025. The endorsement must include a comprehensive statement of the applicant's character, ability, and motivation to become a career officer. Verify statements in applications regarding service component, length of service, and date of birth from official records.

(iii) Notify HQ USAFA/RR immediately on determining that an applicant is no longer recommended for selection to the HQ USAFA/PL.

(7) Unit commanders of Regular or Reserve members of the Army, Navy, or Marine Corps and unit commanders of Army or Air National Guard members:

(i) Accept letters of application to the HQ USAFA/PL from unit personnel.

(ii) Complete an endorsement for all applicants who meet the eligibility requirements. Include in the endorsement a comprehensive statement of the applicant's character, ability, and motivation to become a career officer. Verify statements in applications regarding service component, length of service, and date of birth from official records. Send the endorsement and letter of application to HQ USAFA/RRS, 2304 Cadet Drive, USAF Academy CO 80840-5025.

(iii) Ensure that each applicant receives a release from active duty to attend the HQ USAFA/PL before sending the endorsement. In order to facilitate the accession of a National Guard (Air or Army) member into USAFA or HQ USAFA/PL, a DD Form 368, Request for Conditional Release, or AF Form 1288, Application for Ready Reserve Assignment, should be accomplished and forwarded to the losing Military Personnel Flight (MPF) service for out-processing. Once the member has enlisted, the 10 MSS/DPM will contact the losing MPF. A copy of the DD Form 4 and orders will be provided to the losing ANG MPF by fax. In turn, the losing MPF will project the member's record in MilPDS based on the gaining PAS provided by the 10 MSS/DPM.

(iv) Notify HQ USAFA/RR immediately on determining that an applicant is no longer recommended for selection to the HQ USAFA/PL.

§ 903.2 Eligibility requirements.

(a) For admission to the HQ USAFA/PL, applicants must be:

(1) At least 17 and no more than 22 years old by 1 July of the year of admission.

(2) A citizen or permanent resident of the United States able to obtain citizenship (or Secretary of Defense waiver allowed by 10 U.S.C. 532(f)) by projected commissioning date.

(3) Unmarried and have no dependents.

(4) Of high moral character. Applicants must have no record of Uniform Code of Military Justice convictions or civil offenses beyond minor violations; no history of drug or alcohol abuse; and no prior behaviors, activities, or associations incompatible with USAF standards.

(5) Medically qualified for appointment to the U.S. Air Force Academy (USAFA).

(6) A member of the armed services or eligible to enlist in the U.S. Air Force Reserve.

(b) Normally, applicants must not have previously attended college on a full-time basis or attended a U.S. Service Academy or a U.S. Service Academy Preparatory School. The Headquarters USAFA Registrar's Office (HQ USAFA/RR) determines an applicant's status in this regard.

(c) Every applicant must be an active candidate in the USAFA admissions program, normally through one of following:

(1) Nominated by a source specified in public law.

(2) Identified by the USAFA as fulfilling institutional needs.

(d) Members of the Air Force Reserve or Air National Guard (ANG) must agree to active duty service if admitted to the HQ USAFA/PL. Admitted ANG personnel first transfer to the Air Force Reserves before leaving their place of residence and being called to active duty.

(e) Regular and reserve members of the Armed Forces and the National Guard must have completed basic training.

(f) Regular members of the Armed Forces must have at least 1 year retainability when they enter the HQ USAFA/PL.

§ 903.3 Selection criteria.

(a) Cadet candidates for the HQ USAFA/PL are selected on the basis of demonstrated character, test scores, medical examination, prior academic record, recommendation of the organization commander (if prior service), and other similar reports or records. USAFA is authorized to make selections IAW SECAF guidance including but not limited to selection from among enlisted personnel and recruited athletes. Each applicant must:

(1) Achieve satisfactory scores on the Scholastic Aptitude Test (SAT) or the American College Testing Program (ACT).

(2) Take and pass a medical evaluation administered through the Department of Defense Medical Evaluation Review Board (DODMERB).

(3) Have an acceptable academic record as determined by HQ USAFA/RR. Each applicant must furnish a certified transcript from each high school or civilian preparatory school attended. Applicants should send transcripts to HQ USAFA/RR, 2304 Cadet Drive, Suite 200, USAF Academy, CO 80840-5025.

(4) Take the Candidate Fitness Assessment.

(b) HQ USAFA/RR oversees the holistic review of each viable candidate's record by a panel. This holistic review may include consideration of factors that would enhance diversity at USAFA, such as unique academic abilities, language skills, demonstrated leadership skills, foreign cultural knowledge, athletic prowess, flying aptitude, uncommon life experiences, demonstrated moral or physical courage or other performance-based factors.

(c) HQ USAFA/RR also examines reports and records that indicate an applicant's aptitude, achievement, or ability to graduate from the HQ USAFA/PL in the selection process.

(d) HQ USAFA/RR includes Preparatory School selection guidelines in the “Criteria and Procedures for Air Force Academy Appointment, Class of 20XX” (Contract) and submits for Superintendent approval.

(e) For members of the Armed Forces and the National Guard, HQ USAFA/RR also considers letters of recommendation from applicants' unit commanders.

§ 903.4 Application process and procedures.

(a) Regular and Reserve members of the Air Force must send their applications to: HQ USAFA/RR, 2304 Cadet Drive, Suite 200, USAF Academy, CO 80840-5025, no later than 31 January for admission the following summer. Those otherwise nominated to the Air Force Academy, must complete all steps of admissions by 15 April.

(b) Regular and Reserve members of the Air Force must complete AF Form 1786 and submit it to their unit commander.

(c) Regular and Reserve members of the Army, Navy, or Marine Corps, as well as members of the National Guard, must submit a letter of application through their unit commander.

(d) Civil Air Patrol (CAP) cadets send their applications to HQ USAFA/RR and must apply to CAP National Headquarters by 31 January for nomination.

(e) HQ USAFA/RR automatically considers civilian candidates for admission who have a nomination to the USAFA, but were not selected.

§ 903.5 Reserve enlistment procedures.

(a) Civilians admitted to the HQ USAFA/PL take the oath of enlistment on the date of their initial in-processing at the HQ USAFA/PL. Their effective date of enlistment is the date they take this oath.

(b) Civilians who enlist for the purpose of attending the HQ USAFA/PL will be awarded the rank of E-1. These cadet candidates are entitled to the monthly student pay at the same rate as USAFA cadets according to United States Code Title 37, Section 203.

§ 903.6 Reassignment of Air Force members to become cadet candidates at the Preparatory School.

USAFA Prepatory School Enrollment for members selected from operational Air Force: Selected Regular Air Force members at technical training schools remain there in casual status until the earliest reporting date for the HQ USAFA/PL. Students must not leave their training school without coordinating with HQ USAFA/RR.

§ 903.7 Reassignment of cadet candidates who graduate from the Preparatory School with an appointment to USAFA.

USAFA Cadet Enrollment for Cadet Candidates who graduate from the Prepatory School with an appointment to the USAFA:

(a) The Air Force releases cadet candidates entering the USAFA from active duty and reassigns them to active duty as Air Force Academy cadets, effective on their date of entry into the USAFA in accordance with one of these authorities:

(1) The Department of Air Force letter entitled Members of the Armed Forces Appointed to a Service Academy, 8 July 1957.

(2) Title 10, United States Code, Sections 516 and 523. Air Force Instruction (AFI) 36-3208, Administrative Separation of Airmen.

(b) The Air Force discharges active Reserve cadet candidates who enlisted for the purpose of attending the HQ USAFA/PL in accordance with AFI 36-3208 and reassigns them to active duty as Air Force Academy cadets, effective on their date of entry into the USAFA.

§ 903.8 Cadet candidate disenrollment.

(a) In accordance with AFI 36-3208, the Commander, HQ USAFA/PL, may disenroll a student who:

(1) Fails to meet and maintain HQ USAFA/PL educational, military, character, or physical fitness standards.

(2) Fails to demonstrate adaptability and suitability for participation in USAFA educational, military, character, or physical training programs.

(3) Displays unsatisfactory conduct.

(4) Fails to meet statutory requirements for admission to the USAFA, for example:

(i) Marriage or acquiring legal dependents.

(ii) Medical disqualification.

(iii) Refusal to serve as a commissioned officer in the U.S. Armed Forces.

(5) Requests disenrollment.

(b) The HQ USAFA/PL commander may also disenroll a student when it is determined that the student's retention is not in the best interest of the Government.

(c) The military personnel flight (10 MSS/DPM) processes Regular Air Force members for reassignment if:

(1) They are disenrolled from the HQ USAFA/PL.

(2) They fail to obtain or accept an appointment to a U.S. Service Academy.

(d) The Air Force reassigns Air Force Reserve cadet candidates who are disenrolled from the HQ USAFA/PL or who fail to obtain or accept an appointment to an U.S. Service Academy in either of two ways under AFI 36-3208:

(1) Discharges them from the United States Air Force without any further military obligation if they were called to active duty solely to attend the HQ USAFA/PL.

(2) Releases them from active duty and reassigns them to the Air Force Reserve Personnel Center if they were released from Reserve units to attend the HQ USAFA/PL.

(e) The National Guard (Army or Air Force) releases cadet candidates from active duty and reassigns them to their State Adjutant General.

(f) The Air Force reassigns Regular and Reserve personnel from other Services back to their unit of origin to complete any prior service obligation if:

(1) They are disenrolled from the HQ USAFA/PL.

(2) They fail to obtain or accept an appointment to the USAFA.

§ 903.9 Cadet records and reassignment forms.

(a) Headquarters USAFA Cadet Personnel (HQ USAFA/DPY) maintains records of cadet candidates who enter the USAFA until they are commissioned or disenrolled.

(b) 10 MSS/DPM will send records of Regular Air Force personnel who enter one of the other Service Academies to HQ Air Force Personnel Center (HQ AFPC) for processing.

§ 903.10 Information collections, records, and forms or information management tools (IMTS).

(a) Information Collections. No information collections are created by this publication.

(b) Records. Ensure that all records created as a result of processes prescribed in this publication are maintained in accordance with AFMAN 37-123, Management of Records, and disposed of in accordance with the Air Force Records Disposition Schedule (RDS) located at https://webrims.amc.af.mil.

(c) Forms or IMTs (Adopted and Prescribed).

(1) Adopted Forms or IMTs: AF IMT 847, Recommendation for Change of Publication. AF Form 1288, Application for Ready Reserve Assignment, AF Form 1786, Application for Appointment to the USAF Academy Under Quota Allotted to Enlisted Members of the Regular and Reserve Components of the Air Force, DD Form 4, Enlistment/Reenlistment Document—Armed Forces of the United States, DD Form 368, Request for Conditional Release, and DD Form 1966, Record of Military Processing—Armed Forces of the United States.

(2) Prescribed Forms or IMTs: No forms or IMTs are prescribed by this publication.

Bao-Anh Trinh,
Air Force Federal Register Liaison Officer, Department of the Air Force.

[FR Doc. E7-13250 Filed 7-11-07; 8:45 am]

BILLING CODE 5001-05-P